DEPARTMENT OF TRANSPORTATION

Federal Highway Administration

Environmental Impact Statement; Collier County, Florida

AGENCY: Federal Highway Administration (FHWA), DOT.

ACTION: Notice of Intent.

SUMMARY: The FHWA is issuing this notice of cancellation to advise the public that an Environmental Impact Statement (EIS) for the proposed SR 29 from Oil Well Road to SR 82 in Collier County, Florida will no longer be prepared due to changes in the proposed project. This is formal cancellation of the Notice of Intent that was published in the Federal Register on August 17, 2007.

FOR FURTHER INFORMATION CONTACT: Ms. Cathy Kendall, Senior Environmental Specialist, Federal Highway Administration, 3500 Financial Plaza, Suite 400, Tallahassee, FL 32312; Telephone: 850-553-2225;

SUPPLEMENTARY INFORMATION: The Notice of Intent to prepare an EIS was for improving SR 29 from an existing two-lane to a four-lane facility. The Notice of Intent to prepare an EIS is rescinded.

(Catalog of Federal Domestic Assistance Program Number 20.205, Highway Research, Planning and Construction. The regulations implementing Executive Order 12372 regarding intergovernmental consultation on Federal programs and activities apply to this program.)

Issued On: February 22, 2016.
James Christian,
Division Administrator, Tallahassee, Florida.

[FR Doc. 2016-04135 Filed 2-25-16; 8:45 am]

BILLING CODE 4910-22-P